DEPARTMENT OF ENERGY

Federal Energy Regulatory Commission

Combined Notice of Filings #1

December 28, 2010.

Take notice that the Commission received the following electric rate filings:

Docket Numbers: ER98-2494-016; ER10-256-003; ER09-1297-004; ER09-832-011; ER07-1157-008; ER07-875-007; ER03-1025-008; ER03-179-012; ER01-838-012.

Applicants: ESI Vansycle Partners, L.P.; FPL Energy Stateline II, Inc.; Northern Colorado Wind Energy, LLC; NextEra Energy Power Marketing, LLC; Logan Wind Energy LLC; Peetz Table Wind Energy, LLC; FPL Energy Wyoming, LLC; FPL Energy New Mexico Wind, LLC; FPL Energy Vansycle LLC

Description: NextEra Companies Northwest Triennial Market Power Update.

Filed Date: 12/27/2010.

Accession Number: 20101227-5088.

Comment Date: 5 p.m. Eastern Time on Friday, February 25, 2011.

Docket Numbers: ER98-3096-020; ER98-4138-014; ER99-2781-016; ER07-903-007; ER00-1770-025; ER05-1054-008; ER01-202-013; ER04-472-014; ER96-1361-018.

Applicants: Delmarva Power & Light Company, Potomac Electric Power Company, Atlantic City Electric Company, Pepco Energy Services, Inc, Potomac Power Resources, LLC, Fauquier Landfill Gas, LLC, Eastern Landfill Gas, LLC, Connectiv Energy Supply, Inc., Bethlehem Renewable Energy LLC

Description: Triennial Market-Based Rate Update Filing for Atlantic City Elec. Co; Delmarva Power-Light; Potomac Elec. Pwr Co.; Connectiv Energy Supp.; Pepco Energy Svcs.; Bethlehem Renewable Energy; Eastern Landfill Gas; Potomac Power Res.; Fauquier Landfill Gas.

Filed Date: 12/27/2010.

Accession Number: 20101227-5089.

Comment Date: 5 p.m. Eastern Time on Friday, February 25, 2011.

Docket Numbers: ER10-2477-001.

Applicants: ISO New England Inc.

Description: ISO New England Inc. Compliance Filing.

Filed Date: 12/22/2010.

Accession Number: 20101222-5305.

Comment Date: 5 p.m. Eastern Time on Wednesday, January 12, 2011.

Docket Numbers: ER10-2680-002.

Applicants: Puget Sound Energy, Inc.

Description: Puget Sound Energy, Inc. submits tariff filing per 35: OATT Section 4.2 and Attachment C 12/28/2010 to be effective 4/1/2011.

Filed Date: 12/28/2010.

Accession Number: 20101228-5090.

Comment Date: 5 p.m. Eastern Time on Tuesday, January 18, 2011.

Docket Numbers: ER11-128-001.

Applicants: Grand Ridge Energy IV LLC.

Description: Grand Ridge Energy IV LLC submits tariff filing per 35: Compliance Filing of Facility Connection Agreement to be effective 12/22/2010.

Filed Date: 12/28/2010.

Accession Number: 20101228-5028.

Comment Date: 5 p.m. Eastern Time on Tuesday, January 18, 2011.

Docket Numbers: ER11-129-001.

Applicants: Grand Ridge Energy IV LLC.

Description: Grand Ridge Energy IV LLC submits tariff filing per 35: Compliance Filing of Amended Shared Facilities Agreement to be effective 12/22/2010.

Filed Date: 12/28/2010.

Accession Number: 20101228-5029.

Comment Date: 5 p.m. Eastern Time on Tuesday, January 18, 2011.

Docket Numbers: ER11-130-001.

Applicants: Grand Ridge Energy LLC.

Description: Grand Ridge Energy LLC submits tariff filing per 35: Compliance Filing of Amended Shared Facilities Agreement to be effective 12/22/2010.

Filed Date: 12/28/2010.

Accession Number: 20101228-5030.

Comment Date: 5 p.m. Eastern Time on Tuesday, January 18, 2011.

Docket Numbers: ER11-131-001.

Applicants: Grand Ridge Energy II LLC.

Description: Grand Ridge Energy II LLC submits tariff filing per 35: Compliance Filing of Amended Shared Facilities Agreement to be effective 12/22/2010.

Filed Date: 12/28/2010.

Accession Number: 20101228-5031.

Comment Date: 5 p.m. Eastern Time on Tuesday, January 18, 2011.

Docket Numbers: ER11-132-001.

Applicants: Grand Ridge Energy III LLC.

Description: Grand Ridge Energy III LLC submits tariff filing per 35: Compliance Filing of Amended Shared Facilities Agreement to be effective 12/22/2010.

Filed Date: 12/28/2010.

Accession Number: 20101228-5032.

Comment Date: 5 p.m. Eastern Time on Tuesday, January 18, 2011.

Docket Numbers: ER11-133-001.

Applicants: Grand Ridge Energy V LLC.

Description: Grand Ridge Energy V LLC submits tariff filing per 35: Compliance Filing of Amended Shared Facilities Agreement to be effective 12/22/2010.

Filed Date: 12/28/2010.

Accession Number: 20101228-5033.

Comment Date: 5 p.m. Eastern Time on Tuesday, January 18, 2011.

Docket Numbers: ER11-2171-001.

Applicants: HOP Energy, LLC.

Description: HOP Energy, LLC submits tariff filing per 35: Compliance Filing to be effective 11/23/2010.

Filed Date: 12/28/2010.

Accession Number: 20101228-5035.

Comment Date: 5 p.m. Eastern Time on Tuesday, January 18, 2011.

Docket Numbers: ER11-2428-001.

Applicants: Southwest Power Pool, Inc.

Description: Southwest Power Pool, Inc. submits tariff filing per 35.17(b): Revisions to Clarify Losses Calculation Amendment to be effective 3/1/2011.

Filed Date: 12/27/2010.

Accession Number: 20101227-5029.

Comment Date: 5 p.m. Eastern Time on Tuesday, January 18, 2011.

Docket Numbers: ER11-2520-000.

Applicants: Pacific Northwest Generating Cooperative.

Description: Appendix C to the Updated Market Power Analysis of Pacific Northwest Generating Cooperative, Inc.

Filed Date: 12/28/2010.

Accession Number: 20101228-5026.

Comment Date: 5 p.m. Eastern Time on Tuesday, January 18, 2011.

Docket Numbers: ER11-2527-000.

Applicants: PJM Interconnection, L.L.C.

Description: PJM Interconnection, L.L.C. submits tariff filing per 35: Second ministerial filing incorporating language accepted in Docket No ER10-1196 to be effective 1/1/2011.

Filed Date: 12/27/2010.

Accession Number: 20101227-5065.

Comment Date: 5 p.m. Eastern Time on Tuesday, January 18, 2011.

Docket Numbers: ER11-2528-000.

Applicants: Southwest Power Pool, Inc.

Description: Southwest Power Pool, Inc. submits tariff filing per 35.13(a)(2)(iii: North Buffalo Wind GIA to be effective 12/10/2010.

Filed Date: 12/27/2010.

Accession Number: 20101227-5082.

Comment Date: 5 p.m. Eastern Time on Tuesday, January 18, 2011.

Docket Numbers: ER11-2529-000.

Applicants: Dynegy Midwest Generation, Inc.

Description: Dynegy Midwest Generation, Inc. submits tariff filing per 35.13(a)(2)(iii: Dynegy Midwest Generation, Inc., Amended and Restated Black Start Agreement to be effective 1/1/2011.

Filed Date: 12/28/2010.

Accession Number: 20101228-5000.

Comment Date: 5 p.m. Eastern Time on Tuesday, January 18, 2011.

Docket Numbers: ER11-2530-000.

Applicants: Pacific Gas and Electric Company.

Description: Pacific Gas and Electric Company submits tariff filing per 35.13(a)(2)(iii: SVP IA Modifications to be effective 2/28/2011.

Filed Date: 12/28/2010.

Accession Number: 20101228-5001.

Comment Date: 5 p.m. Eastern Time on Tuesday, January 18, 2011.

Docket Numbers: ER11-2531-000.

Applicants: Midwest Independent Transmission System Operator, Inc.

Description: Midwest Independent Transmission System Operator, Inc. submits tariff filing per 35.13(a)(2)(iii: DEI-Hagerstown SA 2285 WDS to be effective 12/1/2010.

Filed Date: 12/28/2010.

Accession Number: 20101228-5013.

Comment Date: 5 p.m. Eastern Time on Tuesday, January 18, 2011.

Docket Numbers: ER11-2532-000.

Applicants: Florida Power & Light Company.

Description: Florida Power & Light Company submits tariff filing per 35: FPL OATT Order 676-E Compliance Filing to Attachment O to be effective 4/1/2011.

Filed Date: 12/28/2010.

Accession Number: 20101228-5037.

Comment Date: 5 p.m. Eastern Time on Tuesday, January 18, 2011.

Docket Numbers: ER11-2533-000.

Applicants: New York Independent System Operator, Inc.

Description: New York Independent System Operator, Inc. submits tariff filing per 35.13(a)(2)(iii: Steelwinds II IA Among NYISO, Niagara Mohawk, Niagara Wind Power, and Erie Wind to be effective 11/1/2010.

Filed Date: 12/28/2010.

Accession Number: 20101228-5061.

Comment Date: 5 p.m. Eastern Time on Tuesday, January 18, 2011.

Docket Numbers: ER11-2534-000.

Applicants: Morris Cogeneration, LLC.

Description: Morris Cogeneration, LLC submits tariff filing per 35.12: Morris Cogeneration, LLC Application for Market-Based Rate Authority to be effective 1/1/2011.

Filed Date: 12/28/2010.

Accession Number: 20101228-5067.

Comment Date: 5 p.m. Eastern Time on Tuesday, January 18, 2011.

Docket Numbers: ER11-2535-000.

Applicants: New York Independent System Operator, Inc.

Description: New York Independent System Operator, Inc. submits tariff filing per 35.13(a)(2)(iii: Steelwinds I IA Among Niagara Mohawk, Niagara Wind Power, and Erie Wind to be effective 12/20/2010.

Filed Date: 12/28/2010.

Accession Number: 20101228-5069.

Comment Date: 5 p.m. Eastern Time on Tuesday, January 18, 2011.

Docket Numbers: ER11-2536-000.

Applicants: Central Maine Power Company.

Description: Central Maine Power Company submits tariff filing per 35.37: CMP MBR Tariff Revisions Dec. 2010 to be effective 12/27/2010.

Filed Date: 12/28/2010.

Accession Number: 20101228-5072.

Comment Date: 5 p.m. Eastern Time on Tuesday, January 18, 2011.

Docket Numbers: ER11-2537-000.

Applicants: Arizona Public Service Company.

Description: Arizona Public Service Company submits tariff filing per 35: Rate Schedule No. 217 Compliance Filing to be effective 10/6/2010.

Filed Date: 12/28/2010.

Accession Number: 20101228-5078.

Comment Date: 5 p.m. Eastern Time on Tuesday, January 18, 2011.

Docket Numbers: ER11-2538-000.

Applicants: Arizona Public Service Company.

Description: Arizona Public Service Company submits tariff filing per 35: Rate Schedule No. 217 Compliance Filing to be effective 11/12/2010.

Filed Date: 12/28/2010.

Accession Number: 20101228-5079.

Comment Date: 5 p.m. Eastern Time on Tuesday, January 18, 2011.

Docket Numbers: ER11-2539-000.

Applicants: Plains End, LLC.

Description: Plains End, LLC submits tariff filing per 35.13(a)(2)(iii): Revised MBR Tariff to be effective 2/26/2011.

Filed Date: 12/28/2010.

Accession Number: 20101228-5091.

Comment Date: 5 p.m. Eastern Time on Tuesday, January 18, 2011.

Docket Numbers: ER11-2540-000.

Applicants: Plains End II, LLC.

Description: Plains End II, LLC submits tariff filing per 35.13(a)(2)(iii): Revised MBR Tariff to be effective 2/26/2011.

Filed Date: 12/28/2010.

Accession Number: 20101228-5099.

Comment Date: 5 p.m. Eastern Time on Tuesday, January 18, 2011.

Docket Numbers: ER11-2541-000.

Applicants: Louisville Gas and Electric Company.

Description: Louisville Gas and Electric Company submits tariff filing per 35: 12_28_10 Order 676E and 729B_Changes to Attch C to be effective 4/1/2011.

Filed Date: 12/28/2010.

Accession Number: 20101228-5101.

Comment Date: 5 p.m. Eastern Time on Tuesday, January 18, 2011.

Docket Numbers: ER11-2542-000.

Applicants: Rathdrum Power, LLC.

Description: Rathdrum Power, LLC submits tariff filing per 35.13(a)(2)(iii): Revised MBR Tariff to be effective 2/26/2011.

Filed Date: 12/28/2010.

Accession Number: 20101228-5105.

Comment Date: 5 p.m. Eastern Time on Tuesday, January 18, 2011.

Docket Numbers: ER11-2543-000.

Applicants: Carolina Power & Light Company.

Description: Carolina Power & Light Company submits tariff filing per 35.13(a)(2)(iii): Rate Schedule No. 188 of Carolina Power and Light Company to be effective 10/29/2010.

Filed Date: 12/28/2010.

Accession Number: 20101228-5114.

Comment Date: 5 p.m. Eastern Time on Tuesday, January 18, 2011.

Take notice that the Commission received the following electric securities filings:

Docket Numbers: ES11-13-000.

Applicants: AEP Texas Central Company.

Description: Application Under Section 204 of the Federal Power Act for Authorization to Issue Securities of AEP Texas Central Company.

Filed Date: 12/28/2010.

Accession Number: 20101228-5092.

Comment Date: 5 p.m. Eastern Time on Tuesday, January 18, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-33250 Filed 1-4-11; 8:45 am]

BILLING CODE 6717-01-P